FEDERAL COMMUNICATIONS COMMISSION

[DA 03-1512]

Telecommunications Services Between the United States and Cuba

AGENCY: Federal Communications Commission.

ACTION: Notice.

SUMMARY: This document is a summary of the International Bureau's decision to approve the application of Telecuba, Inc. to provide facilities-based services between the United States and Cuba. The International Bureau determined that the present and future public convenience and necessity require a grant of the application.

DATES: Effective May 5, 2003.

FOR FURTHER INFORMATION CONTACT: Peggy Reitzel, International Bureau, (202) 418-1460.

SUPPLEMENTARY INFORMATION: This is a summary of the International Bureau's Order , DA 03-1512, adopted on May 5, 2003, and released on May 6, 2003. The full text of this document is available for inspection and copying during normal business hours in the Consumer and Government Affairs Bureau's Reference Information Center, (Room CY-A257) of the Federal Communications Commission, 445 12th Street, SW., Washington, DC 20554. The document is also available for download over the Internet at http://hraunfoss.fcc.gov/edocs_public/attachmatch/DA-03-1512A1.pdf. The complete text of this document also may be purchased from the Commission's copy contractor, Qualex, Portals II, 445 12th St., SW., Room CY-B402, Washington, DC 20054, telephone (202) 863-2893.

Summary of Order

On May 5, 2003, the Commission approved the application of Telecuba, Inc. (Telecuba) to lease and operate a 3 Mbps satellite circuit to provide service between the United States and Cuba. Currently, Telecuba is authorized to provide global facilities-based and resale services between the United States and all permissible points. Telecuba currently provides prepaid calling card and 1+ direct dial services.

The Commission has authorized Telecuba to provide service between the United States and Cuba in accordance with the provisions of the Cuban Democracy Act. This will allow Telecuba to help meet the large demand for direct telecommunications services between the United States and Cuba. Under the guidelines established by the Department of State, Telecuba is to submit reports indicating the numbers of circuits activated by facility, on or before June 30, and December 31, of each year, and on the one-year anniversary of this notification in the Federal Register.

Federal Communications Commission.
James Ball,
Chief, Policy Division, International Bureau.

[FR Doc. 03-16412 Filed 6-27-03; 8:45 am]

BILLING CODE 6712-01-P